DEPARTMENT OF ENERGY

Federal Energy Regulatory Commission

Combined Notice of Filings

Take notice that the Commission has received the following Natural Gas Pipeline Rate and Refund Report filings:

Filings Instituting Proceedings

Docket Numbers: RP17-429-001.

Applicants: Golden Pass Pipeline LLC.

Description: Golden Pass Pipeline LLC submits tariff filing per 154.203: Golden Pass Pipeline Supplement to 2017 Annual Retainage Report.

Filed Date: 03/13/2017.

Accession Number: 20170313-5260.

Comment Date: 5:00 p.m. Eastern Time on Monday, March 27, 2017.

Docket Numbers: RP17-498-002.

Applicants: Cameron Interstate Pipeline, LLC.

Description: Cameron Interstate Pipeline, LLC submits tariff filing per 154.205(b): Cameron Interstate Pipeline Limited Section 4 Rate Change (Re-submittal) to be effective 4/1/2017.

Filed Date: 03/13/2017.

Accession Number: 20170313-5168.

Comment Date: 5:00 p.m. Eastern Time on Monday, March 20, 2017.

Docket Numbers: RP17-529-000.

Applicants: Iroquois Gas Transmission System, L.P.

Description: Iroquois Gas Transmission System, L.P. submits tariff filing per 154.204: 03/13/17 Negotiated Rates—Consolidated Edison Energy Inc. (HUB) 2275-89 to be effective 3/11/2017.

Filed Date: 03/13/2017.

Accession Number: 20170313-5145.

Comment Date: 5:00 p.m. Eastern Time on Monday, March 27, 2017.

Docket Numbers: RP17-530-000.

Applicants: Iroquois Gas Transmission System, L.P.

Description: Iroquois Gas Transmission System, L.P. submits tariff filing per 154.204: 03/13/17 Mercuria Energy America, Inc. (HUB) 7540-89 to be effective 3/11/2017.

Filed Date: 03/13/2017.

Accession Number: 20170313-5151.

Comment Date: 5:00 p.m. Eastern Time on Monday, March 27, 2017.

Docket Numbers: RP17-531-000.

Applicants: DBM Pipeline, LLC.

Description: DBM Pipeline, LLC submits tariff filing per 154.204: Negotiated Rate Filing to be effective 3/14/2017.

Filed Date: 03/13/2017.

Accession Number: 20170313-5221.

Comment Date: 5:00 p.m. Eastern Time on Monday, March 27, 2017.

Docket Numbers: RP17-532-000.

Applicants: Algonquin Gas Transmission, LLC.

Description: Algonquin Gas Transmission, LLC submits tariff filing per 154.204: Negotiated Rate—Colonial Gas to Shell Energy 793382 to be effective 4/1/2017.

Filed Date: 03/14/2017.

Accession Number: 20170314-5098.

Comment Date: 5:00 p.m. Eastern Time on Monday, March 27, 2017.

Docket Numbers: RP17-533-000.

Applicants: Equitrans, L.P.

Description: Equitrans, L.P. submits tariff filing per 154.203: Notice Regarding Non-Jurisdictional Gathering Facilities (M-73).

Filed Date: 03/15/2017.

Accession Number: 20170315-5016.

Comment Date: 5:00 p.m. Eastern Time on Monday, March 27, 2017.

Docket Numbers: RP17-534-000.

Applicants: Equitrans, L.P.

Description: Equitrans, L.P. submits tariff filing per 154.203: Notice Regarding Non-Jurisdictional Gathering Facilities (PEB-1075).

Filed Date: 03/15/2017.

Accession Number: 20170315-5017.

Comment Date: 5:00 p.m. Eastern Time on Monday, March 27, 2017.

Docket Numbers: RP17-535-000.

Applicants: Midcontinent Express Pipeline LLC.

Description: Midcontinent Express Pipeline LLC submits tariff filing per 154.203: 2017 Annual Penalty Revenue Crediting Report.

Filed Date: 03/15/2017.

Accession Number: 20170315-5021.

Comment Date: 5:00 p.m. Eastern Time on Monday, March 27, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 15, 2017.
Nathaniel J. Davis, Sr.,
Deputy Secretary.

[FR Doc. 2017-05848 Filed 3-23-17; 8:45 am]

BILLING CODE 6717-01-P